DEPARTMENT OF ENERGY

Federal Energy Regulatory Commission

[Docket No. RP01-247-001]

Viking Gas Transmission Company; Notice of Errata Filing

March 29, 2001.

Take notice that on March 26, 2001, Viking Gas Transmission Company (Viking) filed to withdraw its March 1, 2001 filing in Docket No. RP01-247-000 and submitted a corrected filing in its place. According, Viking tendered for filing as part of its FERC Gas Tariff, First Revised Volume No. 1 the following tariff sheets to become effective April 1, 2001:

Twenty-Fourth Revised Sheet No. 6

Seventeenth Revised Sheet No. 6A

Substitute Seventh Revised Sheet No. 6B

Viking states that the corrected Fuel and Loss Retention Percentages for Rate Schedules FT-A, FT-B, FT-C, FT-D, IT and AOT are respectively: 1.67 percent for Zone 1-1, 2.03 percent for Zone 1-2, and .38 percent for Zone 2-2. The corrected unaccounted for loss is 0.01 percent.

Viking states that copies of the filing have been mailed to all persons on the official service list of this proceeding, to all its jurisdictional customers and to affected state regulatory commissions.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-8257 Filed 4-3-01; 8:45 am]

BILLING CODE 6717-01-M